DEPARTMENT OF THE INTERIOR

Fish and Wildlife Service

Notice of Availability of the Post-delisting Monitoring Plan for the Tinian Monarch (Monarcha takatsukasae)

AGENCY: Fish and Wildlife Service, Interior.

ACTION: Notice of document availability.

SUMMARY: We, the U.S. Fish and Wildlife Service, announce the availability of the Post-delisting Monitoring Plan for the Tinian Monarch (Monarcha takatsukasae) (Monitoring Plan). The status of the Tinian monarch will be monitored over a 5-year period from 2006 to 2010, through regular field surveys of the distribution and abundance of the Tinian monarch, regular field surveys for the brown treesnake (Boiga irregularis) on Tinian, and tracking of land use and development on Tinian.

ADDRESSES: Copies of the Monitoring Plan are available by request from the Hawaiian Bird Recovery Coordinator, U.S. Fish and Wildlife Service, Pacific Islands Fish and Wildlife Office, 300 Ala Moana Blvd., Box 50088, Honolulu, Hawaii 96850 (telephone: 808-792-9400; fax: 808-792-9580). This Monitoring Plan is also available on the World Wide Web at http://pacificislands.fws.gov.

FOR FURTHER INFORMATION CONTACT: Dr. Eric VanderWerf, Hawaiian Bird Recovery Coordinator, at the above Honolulu address, at eric_vanderwerf@fws.gov, or at 808-792-9400.

SUPPLEMENTARY INFORMATION:

Background

The Tinian monarch, or Chuchurican Tinian in the Chamorro language, is a forest bird endemic to the island of Tinian in the Mariana Archipelago in the western Pacific Ocean. The Tinian monarch inhabits a variety of forest types on Tinian, including native limestone forest, secondary vegetation consisting primarily of non-native plants, and nearly pure stands of introduced tangantangan (Leucaena leucocephala).

The Tinian monarch was listed as endangered on June 2, 1970 (35 FR 8491) under the authority of the Endangered Species Conservation Act of 1969 (16 U.S.C. 668cc) and remained as endangered under the Endangered Species Act (16 U.S.C. 1531 et seq.) (Act), because its population was reported to be critically low due to the destruction of native forests by pre-World War II (WW II) agricultural practices, and by military activities during WW II. We conducted forest bird surveys on Tinian in 1982, which resulted in a population estimate of 39,338 Tinian monarchs. On November 1, 1985, we published a proposed rule to delist the Tinian monarch (50 FR 45632). Based on comments received, we instead downlisted the Tinian monarch, and a final rule reclassifying it from endangered to threatened was published on April 6, 1987 (52 FR 10890). There is no recovery plan specifying delisting criteria for the Tinian monarch. A study of Tinian monarch breeding biology in 1994 and 1995 resulted in a population estimate of approximately 52,900 birds. In 1996, a replication of the 1982 surveys yielded a population estimate of 55,720 birds. The 1996 survey also found a significant increase in forest density since 1982, indicating an improvement in Tinian monarch habitat quality.

On September 21, 2004, we published a final rule removing the Tinian monarch from the Federal List of Endangered and Threatened Wildlife and Plants (69 FR 65367). Our decision to delist this species was based primarily on information from population surveys and demographic research, which indicated the Tinian monarch had increased in number or was stable, and that the primary listing factor, loss of habitat, had been ameliorated.

Section 4(g)(1) of the Act, requires that we implement a system, in cooperation with the States, to monitor for no fewer than 5 years the status of all species that have recovered and been removed from the Federal List of Endangered and Threatened Wildlife and Plants. The purpose of post-delisting monitoring is to verify that a species delisted due to recovery remains secure from risk of extinction after it has been removed from the protections of the Act. In keeping with that mandate, we developed this Monitoring Plan in cooperation with the Commonwealth of the Northern Mariana Islands (CNMI), Division of Fish and Wildlife; the U.S. Geological Survey, Biological Resources Discipline; the U.S. Department of Agriculture, Wildlife Services; and the Department of the Navy. A draft of this plan was peer-reviewed by nine scientific experts familiar with the Tinian monarch, the brown treesnake, and methods of monitoring bird and brown treesnake populations. The Draft Post-delisting Monitoring Plan for the Tinian Monarch was available for comment from December 13, 2004, through January 12, 2005 (69 FR 72211). Information submitted during the comment period has been considered in the preparation of this Monitoring Plan and is summarized in Appendix A.

The Monitoring Plan is designed to monitor the status of the Tinian monarch by detecting whether the abundance and distribution of Tinian monarchs is declining across the island, and whether the survival of adult monarchs or the number of occupied Tinian monarch territories is declining in “early warning plots.” The Monitoring Plan also includes a brown treesnake monitoring component and a land use and development monitoring component. Data on abundance and distribution of monarchs across the island will be collected monthly using point count surveys similar to the North American Breeding Bird Survey. Information on territory occupancy and survival of individually marked monarchs will be collected annually in small “early warning” plots located in areas where brown treesnakes might be most likely to occur. Monitoring of the brown treesnake will be done monthly by field crews that search for snakes visually, and eventually by dog teams trained to detect snakes by smell in the forest. The point count surveys are already being implemented by the Department of the Navy. We intend to implement the remaining aspects of the Monitoring Plan annually from 2006-2010.

We will work cooperatively with the CNMI Division of Fish and Wildlife, other Federal agencies, and other partners to collect this information, which we will analyze each year and, if necessary, propose adjustments to the sampling design. If the data indicates that the Tinian monarch is experiencing significant decreases in abundance, distribution, survival, or territory occupancy, we will initiate more intensive review or studies to determine the cause and, if necessary, take action to re-list the Tinian monarch under section 4 of the Act.

Author

The primary author of this document is Dr. Eric A. VanderWerf, Hawaiian Bird Recovery Coordinator (see ADDRESSES).

Authority

The authority for this action is the Endangered Species Act of 1973, as amended in 1988 (16 U.S.C. 1531 et seq.).

Dated: May 11, 2005.
David J. Wesley,
Acting Regional Director, Region 1, Fish and Wildlife Service.

[FR Doc. 05-11258 Filed 6-7-05; 8:45 am]

BILLING CODE 4310-55-P